FEDERAL COMMUNICATIONS COMMISSION

47 CFR Part 73

[DA 01-1102, MM Docket No. 00-216; RM-9995, 10066]

Radio Broadcasting Services; McKinleyville, CA

AGENCY: Federal Communications Commission.

ACTION: Final rule.

SUMMARY: The Commission grants a petition filed by Four Rivers Broadcasting, Inc., requesting the allotment of Channel 236C3 at McKinleyville, California, as the community's first local aural transmission service. See 65 FR 67691 (November 13, 2000). It also allots chanel *277C3 at McKinleyville in response to a counterproposal filed by Christian Country Network. Inc, requesting the allotment of a channel at McKinleyville and reservation for noncommercial use. Channel 236C3 can be allotted at McKinleyville, California consistent with the minimum distance separation requirements of Section 73.207(b) and the principal community coverage requirements of Section 73.315(a) of the Commission's Rules without a site restriction at coordinates 40-56-42 NL and 124-05-54 WL. Channel *277C3 can be allotted at McKinleyville, California consistent with the minimum distance separation requirements of Section 73.207(b) and the principal community coverage requirements of Section 73.315(a) of the Commission's Rules at a site 18.1 kilometers (11.2 miles) north at coordinates 41-06-11 NL and 124-09-00 WL.

DATES: Effective June 11, 2001.

FOR FURTHER INFORMATION CONTACT: Victoria M. McCauley, Mass Media Bureau, (202) 418-2180.

SUPPLEMENTARY INFORMATION: This is a synopsis of the Commission's Report and Order, MM Docket No. 00-216 adopted April 18, 2001, and released April 27, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036. Provisions of the Regulatory Flexibility Act of 1980 do not apply to this proceeding.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334. 336.

PART 73—[AMENDED]

2. Section 73.202(b) the FM Table of Allotments under California is amended by adding McKinleyville, Channels 236C3 and *277C3.

Federal Communications Commission.
John A. Karousos,
Chief, Allocations Branch, Policy and Rules Division, Mass Media Bureau.

[FR Doc. 01-12086 Filed 5-14-01; 8:45 am]

BILLING CODE 6712-01-P